NATIONAL SCIENCE FOUNDATION

National Science Board: Sunshine Act Meetings; Notice

The National Science Board, pursuant to NSF regulations (45 CFR part 614), the National Science Foundation Act, as amended (42 U.S.C.1862n-5), and the Government in the Sunshine Act (5 U.S.C. 552b), hereby gives notice in regard to the scheduling of meetings for the transaction of National Science Board business and other matters specified, as follows:

Agency Holding Meeting: National Science Board.

Date and Time: Wednesday, May 13, 2009, at 8 a.m.; and Thursday, May 14, 2009 at 8 a.m.

Place: National Science Foundation, 4201 Wilson Blvd., Rooms 1235 and 1295, Arlington, VA 22230. All visitors must report to the NSF visitor desk at the 9th and N. Stuart Streets entrance to receive a visitor's badge. For your convenience, arrange for a visitor's badge in advance. Call 703-292-7000 to request that your badge be ready for pick-up at the visitor's desk on the day of the meeting.

Status: Some portions open, some portions closed.

Open Sessions

May 13, 2009

8 a.m.-8:05 a.m.

8:05 a.m.-11:15 a.m.

8:30 a.m.-8:45 a.m.

8:45 a.m.-9 a.m.

11 a.m.-12 p.m.

1 p.m.-3:45 p.m.

May 14, 2009

8 a.m.-9 a.m.

10 a.m.-11 a.m.

11 a.m.-12 p.m.

1 p.m.-1:30 p.m.

2 p.m.-3:30 p.m.

Closed Sessions

May 13, 2009

9 a.m.-9:30 a.m.

9:30 a.m.-11 a.m.

11:15 a.m.-12 p.m.

1 p.m.-3:45 p.m.

May 14, 2009

9 a.m.-9:30 p.m.

9:30 a.m.-10 a.m.

1:30 p.m.-1:45 p.m.

1:45 p.m.-2 p.m.

Agency Contact: Dr. Robert E. Webber, rwebber@nsf.gov, (703) 292-7000, http://www.nsf.gov/nsb/.

Matters To Be Discussed

Wednesday, May 13, 2009

Open Session: 8 a.m.-8:05 a.m., Room 1235

• Chairman's Remarks.

Committee on Programs and Plans (CPP)

Open Session: 8:05 a.m.-11:15 a.m., Room 1235

• Approval of February 2009 and March 2009 CPP Minutes.

• Committee Chairman's Remarks.

• CPP Task Force on Sustainable Energy (SE)

○ Task Force Co-Chairmen's Remarks.

○ Review of Public Comments on Task Force Draft Report.

○ Discussion of Task Force Draft Report.

• CPP Subcommittee on Polar Issues (SOPI)

○ SOPI Chairman's Remarks.

○ Arctic Post-International Polar Year (IPY) International Partnerships.

○ Antarctic 2009 Season Highlights.

○ Antarctic Liability Legislation.

• NSB Information Item: Network for Earthquake Engineering Simulation (NEES) Operations.

• NSB Information Item (NSB/CPP-09-19): Award for Coherent Light Source Development.

• NSB Information Item: Support for Design of Deep Underground Science and Engineering Laboratory (DUSEL).

• NSB Information Item: American Recovery and Reinvestment Act of 2009 (ARRA) Award for Purchase of 21 Tesla Magnet.

• NSB Information Item: TeraGrid Extension Award.

• NSB Information Item: Academic Research Infrastructure (ARI)/Major Research Instrumentation (MRI) Program Announcement(s).

• Discussion Item: Issues Raised by CPP for Committee Consideration in FY 2009 and Beyond & Proposed Revision to the Charge to the Committee.

Committee on Programs and Plans (CPP)

Closed Session: 11:15 a.m.-12 p.m., Room 1235

• Committee Chairman's Remarks.

• NSB Action Item: Management and Operation of the National Radio Astronomy Observatory (NRAO).

Executive Committee

Open Session: 8:30 a.m.-8:45 a.m., Room 1295

• Approval of Minutes for the February 2009 Meeting.

• Approval of Minutes from the March 31, 2009 Teleconference.

• Executive Committee Chairman's Remarks.

• Approval of Closed Session Agenda Items memo for the August 5-6, 2009 meeting.

• Approval of the Executive Committee Annual Report.

• Approval of the Proposed NSB Prioritization Process.

• Updates or New Business from Committee Members.

Task Force on the NSB 60th Anniversary

Open Session: 8:45 a.m.-9 a.m., Room 1295

• Approval of Minutes for the December 2008 Meeting.

• Task Force Chairman's Remarks.

• Further Discussion and Comments Relating to NSB 60th Anniversary.

ad hoc Committee on Nominations for NSB Class of 2010-2016

Closed Session: 9 a.m.-9:30 a.m., Room 1295

• Nominations Committee Chairman's Remarks.

• Discussion of Nomination Process.

Committee on Strategy and Budget (CSB)

Closed Session: 9:30 a.m.-11 a.m., Room 1295

• CSB Subcommittee on Facilities

○ Subcommittee Chairman's Remarks.

○ Discussion of SCF Charge, Workplan, and Anticipated Outcomes.

○ Overview of NSF Facilities Planning and MREFC Process.

○ Large Facilities Portfolio in GEO/OCE.

○ Discussion of GEO/OCE Portfolio.

○ Recommendations, Lessons Learned and Discussion of Future SCF Activities.

Committee on Education and Human Resources (CEH)

Open Session: 11 a.m.-12 p.m., Room 1295

• Approval of February 2009 Minutes.

• Update on the Next Generation of STEM Innovators Workshop.

• Discussion of CEH-recommended NSB major activities.

Committee on Science and Engineering Indicators (SEI)

Open Session: 1 p.m.-3:45 p.m., Room 1235

• Approval of February minutes.

• Chairman's remarks.

• Review of S&E Indicators 2010 chapter drafts.

• Discussion of S&E Indicators 2010 Companion Piece Topics.

• Chairman's summary.

Committee on Programs and Plans (CPP)

Closed Session: 1 p.m.-3:45 p.m., Room 1295

• NSB Action Item: Ocean Observatories Initiative (OOI).

• NSB Action Item: Research Infrastructure Improvement Program (RII) Awards from the Experimental Program to Stimulate Competitive Research (EPSCoR).

Thursday, May 14, 2009

Committee on Audit and Oversight (A&O)

Open Session: 8 a.m.-9 a.m., Room 1235

• Approval of Minutes of the February 24, 2009 Meeting.

• Committee Chairman's Opening Remarks.

• OIG Semiannual Report.

○ Management Response to OIG Semiannual Report.

• Report to the Board on the NSF Merit Review Process, FY 2008.

• Chief Financial Officer's Update including ARRA status update.

• FY2009 Audit Status Report.

Committee on Audit and Oversight (A&O)

Closed Session: 9 a.m.-9:30 a.m., Room 1235

• Pending Investigations.

• Personnel Matters.

Committee on Strategy and Budget (CSB)

Closed Session: 9:30 a.m.-10 a.m., Room 1235

• NSF Budget Planning.

Committee on Strategy and Budget (CSB)

Open Session: 10 a.m.-11 a.m., Room 1235

• Approval of CSB Minutes, February 23 and 24, 2009.

• Committee Chairman's Remarks.

• NSF Long Range Planning.

• NSF Budget Update.

○ FY 2009 Appropriation.

○ FY 2009 American Recovery and Reinvestment Act (ARRA) Update.

• NSF Assistant Director Discussion on ARRA Strategy.

Plenary Open

Open Session: 11 a.m.-12 p.m., Room 1235

• Presentations by 2009 Honorary Award Recipients.

○ Dr. David Charbonneau, Alan T. Waterman Award Recipient.

○ Dr. Roald Hoffmann, NSB Public Service Award Recipient (individual).

○ American Chemical Society/Project SEED, NSB Public Service Award Recipient (group).

Plenary Open

Open Session: 1 p.m.-1:30 p.m., Room 1235

• Presentation by 2009 Honorary Award Recipient.

○ Dr. Mildred Dresselhaus, Vannevar Bush Award Recipient.

Plenary Executive Closed

Closed Session: 1:30 p.m.-1:45 p.m., Room 1235

• Approval of February 2009 Minutes.

• Election for Executive Committee.

Plenary Closed

Closed Session: 1:45 p.m.-2 p.m., Room 1235

• Approval of February 2009 Minutes.

• Awards and Agreements.

• Closed Committee Reports.

Plenary Open

Open Session: 2 p.m.-3:30 p.m., Room 1235

• Approval of February 2009 Minutes.

• Chairman's Report.

• Director's Report.

○ NSF Congressional Update.

• Open Committee Reports.

Ann Ferrante,
Technical Writer/Editor.

[FR Doc. E9-10247 Filed 4-30-09; 11:15 am]

BILLING CODE 7555-01-P